DEPARTMENT OF LABOR

Employment and Training Administration

Comment Request for Information Collection for the Workforce Investment Act (WIA) Adult and Dislocated Worker Programs Gold Standard Evaluation (WIA Evaluation); Extension Request Without a Change to an Existing Collection

AGENCY: Employment and Training Administration (ETA), Labor.

ACTION: Notice.

SUMMARY: The Department of Labor (Department), as part of its continuing effort to reduce paperwork and respondent burden, conducts a preclearance consultation program to provide the general public and Federal agencies with an opportunity to comment on proposed and/or continuing collections of information in accordance with the Paperwork Reduction Act of 1995 (PRA) [44 U.S.C. 3506(c)(2)(A)]. This program helps to ensure that required data can be provided in the desired format, reporting burden (time and financial resources) is minimized, collection instruments are clearly understood, and the impact of collection requirements on respondents can be properly assessed.

The Department notes that a Federal agency cannot conduct or sponsor a collection of information unless it is approved by the Office of Management and Budget (OMB) under the PRA and displays a currently valid OMB control number, and the public is not required to respond to an information collection request unless it displays a currently valid OMB control number. Also, notwithstanding any other provisions of law, no person shall be subject to penalty for failing to comply with a collection of information if the collection of information does not display a currently valid OMB control number (see 5 CFR 1320.5(a) and 1320.6).

This information collection request is to obtain extended clearance for Mathematica Policy Research, under contract to ETA, to continue to administer a follow-up survey to WIA customers participating in the WIA Evaluation for an additional six months. The customers are being surveyed 30 months after they were randomly assigned.

DATES: Written comments must be submitted to the office listed in the addresses section below on or before on or before October 13, 2015.

ADDRESSES: Send comments to Eileen Pederson, Office of Policy Development and Research, Employment and Training Administration, U.S. Department of Labor, 200 Constitution Ave. NW., Room N-5641, Washington, DC 20210. Telephone number: (202) 693-3647 (this is not a toll-free number). Email address: pederson.eileen@dol.gov. Fax number: (202) 693-2766 (this is not a toll-free number).

SUPPLEMENTARY INFORMATION:

I. Background

Passage of WIA (Pub. L. 105-220) led to a major redesign of the country's workforce system. WIA programs serve more than 6 million people annually at a cost of over $3 billion (U.S. Department of Labor, Fiscal Year 2012 Budget in Brief). Among its goals, WIA aims to bring formerly fragmented public and private employment services together in a single location within each community, make them accessible to a wider population than did prior employment services and training, empower customers with greater ability to choose from services and training options, and provide localities greater local flexibility in using funds and greater accountability for customers' employment outcomes. In July 2014, the Workforce Innovation and Opportunity Act of 2014 (WIOA) was signed into law, superseding the Workforce Investment Act of 1998. Although WIOA makes some important changes to the public workforce investment system, the Adult and Dislocated Worker programs continue to exist and offer job seekers a similar set of services. Lessons learned from the WIA Evaluation can inform policymakers and program administrators as WIOA is implemented.

Congress mandated in section 172 of the WIA legislation that the Secretary of Labor conduct at least one multi-site control group evaluation. Accordingly, the Department has undertaken the WIA Evaluation to provide rigorous, nationally representative estimates of the net-impacts of WIA intensive and training services. Intensive services involve substantial staff assistance and include assessments, counseling, and job placement. Training services include education and occupational skills building. This evaluation will offer policymakers, program administrators, and service providers information about the relative effectiveness of services, including training, how the effectiveness varies by target population, and how the services are provided. The study will also produce estimates of the benefits and costs of WIA intensive and training services. The Department contracted with Mathematica Policy Research and its subcontractors—Social Policy Research Associates, MDRC, and the Corporation for a Skilled Workforce—to conduct this evaluation.

Random assignment occurred in 28 randomly-selected Local Workforce Investment Areas (LWIAs) between November 2011 and April 2013. The length of the intake period was determined in consultation with the Local Workforce Investment Board and/or LWIA administrators. WIA customers who were eligible for intensive services were randomly assigned to one of three groups: (1) The full-WIA group—adults and dislocated workers in this group could receive any WIA service for which they are eligible; (2) the core-and-intensive group—adults and dislocated workers in this group could receive any WIA core and intensive services for which they are eligible, but not training; and (3) the core-only group—adults and dislocated workers in this group could receive only core services and no WIA intensive or training services. Customers who did not consent to participate in the study were allowed to receive core services only for the duration of the study intake period in the respective LWIA.

About 36,000 WIA adult and dislocated worker customers were randomly assigned to the evaluation—about 32,000 customers to the full-WIA group and about 2,000 customers to each of the restricted-service groups. All 4,000 members of the restricted-service groups and a random sample of 2,000 customers in the full-WIA group are being asked to complete two follow-up surveys.

The WIA Evaluation will address the following research questions:

1. Does access to WIA intensive services, alone or in conjunction with WIA-funded training, lead adults and dislocated workers to achieve better educational, employment, earnings, and self-sufficiency outcomes than they would achieve in the absence of access to those services?

2. Does the effectiveness of WIA vary by population subgroup? Is there variation by sex, age, race/ethnicity, unemployment insurance receipt, prior education level, previous employment history, adult and dislocated worker status, and veteran and disability status?

3. How does the implementation of WIA vary by LWIA? Does the effectiveness of WIA vary by how it is implemented? To what extent do implementation differences explain variations in WIA's effectiveness?

4. Do the benefits from WIA intensive and training services exceed program costs? Do the benefits of intensive services exceed their costs? Do the benefits of training services exceed their costs? Do the benefits exceed the costs for adults? Do the benefits exceed the costs for dislocated workers?

An initial package for the WIA Evaluation, approved in September 2011 (OMB No. 1205-0482), requested clearance for the customer intake process which included: A form to check the study eligibility of the customer; a customer study consent form (indicating the customer's knowledge of the evaluation and willingness to participate); the collection of baseline data through a study registration form; and a contact information form. The package also included site visit guides for the collection of qualitative information on WIA program processes and services.

A second package, approved in January 2013 (OMB No. 1205-0504), requested clearance for the two follow-up surveys to be conducted at 15 and 30 months after random assignment, a cost data collection package consisting of three forms, and the Veterans' Supplemental Study consisting of qualitative and quantitative data to be collected at the 28 LWIAs participating in the WIA Evaluation.

In March 2015, a nonsubstantive change request was approved to modify the incentives used for both follow-up surveys approved under OMB No. 1205-0504.

This new request is to extend OMB clearance of the final 30-month follow-up survey administration (OMB No. 1205-0504), which will expire on January 31, 2016, for an additional six months, to July 31, 2016. This extension will allow additional time to locate sample members for administration of the survey. There are no revisions to the information collection forms or total respondent burden. This request does not include an extension to the 15-month follow-up survey, the cost data collection package, or the Veterans' Supplemental Study.

The 30-month follow-up survey collects data on study participants' receipt of services and study participant outcomes on attainment of education credentials, labor market success, and family self-sufficiency. The survey is administered by telephone to 6,000 study participants—all 2,000 members of each of the core-only and core-and-intensive groups and 2,000 randomly selected study participants in the full-WIA group. These data will be used to estimate the impacts of WIA intensive and training services.

II. Desired Focus of Comments

Currently, the Department is soliciting comments concerning the above data collection. Comments are requested which:

• Evaluate whether the proposed collection of information is necessary for the proper performance of the functions of the agency, including whether the information will have practical utility;

• Evaluate the accuracy of the agency's estimate of the burden of the proposed collection of information, including the validity of the methodology and assumptions used; and

• Enhance the quality, utility, and clarity of the information to be collected; and minimize the burden of the information collection on those who are to respond, including the use of appropriate automated, electronic, mechanical, or other technological collection techniques or other forms of information technology, e.g., permitting electronic submissions of responses.

III. Current Actions

At this time, the Department is requesting clearance for a six-month extension of OMB clearance allowed to complete the WIA Evaluation's 30-month follow-up survey.

Type of Review: Extension without a change.

Title of Collection: WIA Adult and Dislocated Worker Programs Gold Standard Evaluation.

OMB Number: 1205-0504.

Affected Public: Low-income, disadvantaged adults and dislocated workers who have received services from American Job Centers (formerly One-Stop Career Centers).

Cite/Reference/Form/etc.: Workforce Investment Act of 1998, section 172 (Pub. L. 105-220) and Workforce Innovation and Opportunity Act, section 169 (Pub. L. 113-128).

Aunnal Burden Estimates for the WIA Evaluation 30-Month Follow-up Survey Between February 1, 2016 and JULY 31, 2016
Activity | Number of respondents¹ | Responses per respondent | Average time per response | Total respondent burden (hours)
30-Month Follow-Up Survey | 1,230 | 1 | 30 minutes | 615
¹Attempts will be made to complete interviews with 6,000 sample members in each wave of the follow-up survey. To achieve the targeted response rate of 82 percent, interviews will be completed with 4,920 sample members. The 30-Month follow-up survey will be fielded through July 31, 2016. We expect to have completed interviews with 3,690 sample members by January 31, 2016, when the current OMB clearance expires. We expect to complete 1,230 additional interviews between February 1 and July 31, 2016, the extension proposed in this request.

The 30-month follow-up survey will be administered once to each respondent. The survey is designed to take an average of 30 minutes to complete using computer-assisted telephone interviewing. Therefore, the total annual burden to conduct the 30-month follow-up survey is 1,230 hours ((4,920 interviews × 0.5 hours per interview) ÷ 2 years). This amount will not change with this extension request. However, the burden to conduct the 30-month follow-up survey during the six month extension period is a total of 615 hours (1,230 interviews × 0.5 hours per interview). The total estimated annual other cost burden for the six month extension period is $4,458.75 (1,230 interviews × 0.5 hours per interview × $7.25 per hour).

Comments submitted in response to this request will be summarized and/or included in the request for OMB approval; they will also become a matter of public record.

Portia Wu,
Assistant Secretary for Employment and Training, Labor.

[FR Doc. 2015-19928 Filed 8-13-15; 8:45 am]

BILLING CODE 4510-FT-P